OFFICE OF PERSONNEL MANAGEMENT

Excepted Service

AGENCY: Office of Personnel Management (OPM).

ACTION: Notice.

SUMMARY: This gives notice of OPM decisions granting authority to make appointments under Schedules A, B, and C in the excepted service as required by 5 CFR 6.6 and 213.103.

FOR FURTHER INFORMATION CONTACT: C. Penn, Executive Resources Services Group, Center for Human Resources, Division for Human Capital Leadership and Merit System Accountability, 202-606-2246.

SUPPLEMENTARY INFORMATION: Appearing in the listing below are the individual authorities established under Schedules A, B, and C between September 1, 2006, and September 31, 2006. Future notices will be published on the fourth Tuesday of each month, or as soon as possible thereafter. A consolidated listing of all authorities as of June 30 is published each year.

Schedule A

No Schedule A appointments were approved for September 2006.

Schedule B

No Schedule B appointments were approved for September 2006.

Schedule C

The following Schedule C appointments were approved during September 2006:

Section 213.3303 Executive Office of the President

Office of Management and Budget

BOGS60906 Special Assistant to the Deputy Director for Management to the Deputy Director for Management. Effective September 13, 2006.

BOGS60907 Confidential Assistant to the Associate Director for Natural Resource Programs. Effective September 20, 2006.

Office of National Drug Control Policy

QQGS60099 Project Manager to the Deputy Director for Demand Reduction. Effective September 6, 2006.

QQGS60098 Special Assistant to the Associate Director for Legislative Affairs to the Associate Director Office of Legislative Affairs. Effective September 13, 2006.

Office of the United States Trade Representative

TNGS60025 Deputy Assistant United States Trade Representative for Congressional Affairs to the Assistant United States Trade Representative for Congressional Affairs. Effective September 20, 2006.

Section 213.334 Department of State

DSGS61114 Staff Assistant to the Under Secretary for Arms Control and Security Affairs. Effective September 1, 2006.

DSGS61117 Special Assistant to the Counselor. Effective September 01, 2006.

DSGS61118 Senior Advisor to the Assistant Secretary for Western Hemispheric Affairs. Effective September 1, 2006.

DSGS61116 Special Assistant to the Deputy Assistant Secretary. Effective September 6, 2006.

DSGS61120 Staff Assistant to the Director, Office of International Visitors. Effective September 14, 2006.

DSGS61119 Staff Assistant to the Assistant Secretary for International Organizational Affairs. Effective September 5, 2006.

DSGS61121 Special Assistant to the Assistant Secretary for International Organizational Affairs, Effective September 15, 2006.

DSGS61122 Public Affairs Specialist (Speechwriter) to the Assistant Secretary for European Affairs. Effective September 27, 2006.

DSGS61123 Staff Assistant to the Assistant Secretary for Western Hemispheric Affairs. Effective September 27, 2006.

DSGS61124 Coordinator to the Under Secretary for Global Affairs. Effective September 29, 2006.

Section 213.335 Department of the Treasury

DYGS00477 Senior Advisor to the Assistant Secretary (Tax Policy). Effective September 01, 2006.

DYGS00453 Media Coordinator to the Assistant Secretary (Public Affairs). Effective September 08, 2006.

DYGS00462 Senior Advisor to the Under Secretary (International Affairs) for International Affairs. Effective September 08, 2006.

DYGS00478 Senior Writer to the Treasurer of the United States. Effective September 18, 2006.

DYGS00464 Special Assistant to the Assistant Secretary (Deputy Under Secretary) for Legislative Affairs. Effective September 20, 2006.

Section 213.336 Department of Defense

DDGS16979 Personal and Confidential Assistant to the General Counsel. Effective September 01, 2006.

DDGS16983 Defense Fellow to the Special Assistant tot he Secretary of Defense for White House Liaison. Effective September 06, 2006.

DDGS16987 Public Affairs Specialist to the Principal Deputy Assistant Secretary of Defense for Public Affairs. Effective September 13, 2006.

DDGS16988 Executive Assistant to the Director, Operational Test and Evaluation. Effective September 25, 2006.

Section 213.337 Department of the Army

DWGS60021 Special Assistant to the Assistant Secretary of Army (Installations and Environment) (Installations and Environment). Effective September 13, 2006.

DWGS60022S Personal and Confidential Assistant to the Executive Director, Strategy and Performance Planning. Effective September 20, 2006.

Section 213.338 Department of the Navy

DNGS6413 Confidential Assistant to the Assistant Secretary of Navy (Installations and Environment). Effective September 05, 2006.

DNGS6414 Staff Assistant to the Under Secretary of the Navy. Effective September 05, 2006.

Section 213.339 Department of the Air Force

DFGS60013 Special Counsel and Special Assistant to the General Counsel. Effective September 29, 2006.

Section 213.3310 Department of Justice

DJGS00244 Confidential Assistant to the Assistant Attorney General. Effective September 01, 2006.

DJGS00039 Special Assistant to the Chairman. Effective September 13, 2006.

DJGS00246 Counsel to the Assistant Attorney General Environment and Natural Resources. Effective September 22, 2006.

DJGS00322 Counsel to the Assistant Attorney General (Legal Policy). Effective September 22, 2006.

DJGS00121 Senior Counsel to the Assistant Attorney General. Effective September 27, 2006.

Section 213.3311 Department of Homeland Security

DMGS00569 Legislative Assistant to the Assistant Secretary for Legislative Intergovernmental Affairs. Effective September 01, 2006.

DMGS00572 Confidential Assistant to the Director to the Director, Office of Screening Coordination. Effective September 01, 2006.

DMGS00573 Deputy Director of Secretarial Briefing Book to the Executive Secretary. Effective September 13, 2006.

DMGS00574 Policy Analyst to the Assistant Secretary for Private Sector. Effective September 13, 2006.

DMGS00570 Confidential Assistant to the Director, National Capital Region Coordination. Effective September 18, 2006.

DMGS00571 Writer-Editor to the Executive Secretary. Effective September 18, 2006.

DMGS00576 Press Assistant to the Press Secretary. Effective September 22, 2006.

Section 213.3312 Department of the Interior

DIGS01078 Counselor to the Assistant Secretary—Water and Science for Water and Science. Effective September 20, 2006.

DIGS01075 Associate Director—External and Intergovernmental Affairs to the Director, External and Intergovernmental Affairs. Effective September 25, 2006.

Section 213.3313 Department of Agriculture

DAGS00860 Special Assistant to the Secretary. Effective September 6, 2006.

DAGS00862 Confidential Assistant to the Assistant Secretary for Congressional Relations. Effective September 14, 2006.

DAGS00863 Director of External Affairs to the Administrator, Farm Service Agency. Effective September 18, 2006.

DAGS00861 Deputy Director, Office of Faith-Based and Community Initiatives to the Director of Faith-Based and Community Initiatives. Effective September 20, 2006.

Section 213.3314 Department of Commerce

DCGS00252 Confidential Assistant to the Director, Executive Secretariat. Effective September 1, 2006.

DCGS00361 Chief of Congressional Affairs to the Associate Director for Communications. Effective September 1, 2006.

DCGS00451 Senior Advisor to the Under Secretary for International Trade. Effective September 1, 2006.

DCGS60684 Director of Speechwriting to the Director of Public Affairs. Effective September 27, 2006.

DCGS00544 Special Assistant to the Under Secretary for International Trade. Effective September 28, 2006.

DCGS00642 Protocol Officer to the Chief of Staff. Effective September 28, 2006.

Section 213.3315 Department of Labor

DLGS60084 Special Assistant to the Associate Deputy Secretary. Effective September 13, 2006.

DLGS60163 Chief of Staff to the Assistant Secretary for Occupational Safety and Health. Effective September 13, 2006.

DLGS60011 Staff Assistant to the Director, 21st Century Office and Deputy Assistant Secretary for Intergovernmental Affairs. Effective September 22, 2006.

DLGS60092 Attorney Adviser to the Solicitor of Labor. Effective September 22, 2006.

DLGS60147 Attorney Adviser to the Solicitor of Labor. Effective September 22, 2006.

DLGS60175 Senior Advisor to the Deputy Assistant Secretary for Policy. Effective September 22, 2006.

Section 213.3316 Department of Health and Human Services

DHGS60010 Confidential Assistant (Faith-Based) to the Director, Center for Faith-Based and Community Initiatives. Effective September 22, 2006.

DHGS60041 Special Assistant to the Deputy Commissioner for Policy. Effective September 29, 2006.

Section 213.3317 Department of Education

DBGS00565 Confidential Assistant to the Director, Office of Educational Technology. Effective September 13, 2006.

DBGS00566 Special Assistant to the Assistant Secretary for Planning, Evaluation, and Policy. Effective September 28, 2006.

Section 213.3318 Environmental Protection Agency

EPGS06022 Program Advisor to the Associate Administrator for Congressional and Intergovernmental Relations. Effective September 1, 2006.

EPGS06023 Senior Speechwriter to the Associate Administrator for Public Affairs. Effective September 13, 2006.

EPGS06024 Associate Assistant Administrator to the Assistant Administrator for Solid Waste and Emergency Response. Effective September 15, 2006.

EPGS06025 Senior Strategic Scheduler to the Deputy Chief of Staff (Operations). Effective September 29, 2006.

EPGS06027 Director of Advance to the Deputy Chief of Staff (Operations). Effective September 29, 2006.

Section 213.3331 Department of Energy

DEGS00542 Special Assistant to the Director, Public Affairs. Effective September 13, 2006.

Section 213.3332 Small Business Administration

SBGS60190 Deputy Chief of Staff to the Chief of Staff. Effective September 13, 2006.

SBGS00604 Director of Scheduling and Advance to the Chief of Staff. Effective September 15, 2006.

SBGS00603 Policy Analyst to the Associate Administrator for Policy. Effective September 22, 2006.

Section 213.3337 General Services Administration

GSGS00177 Deputy Chief of Staff to the Chief of Staff. Effective September 01, 2006.

GSGS00181 Public Affairs Assistant to the Deputy Associate Administrator for Communications. Effective September 13, 2006.

Section 213.3339 United States International Trade Commission

TCGS00012 Confidential Assistant to a Commissioner. Effective September 20, 2006.

Section 213.3384 Department of Housing and Urban Development

DUGS60338 Special Policy Advisor to the Assistant Secretary for Housing, Federal Housing Commissioner. Effective September 13, 2006.

DUGS60210 Special Assistant to the Assistant Secretary for Congressional and Intergovernmental Relations. Effective September 20, 2006.

DUGS60423 Staff Assistant to the Assistant Secretary for Administration/Chief Human Capital Officer. Effective September 25, 2006.

Section 213.33 Merit Systems Protection Board

MPSL00001 Chief Counsel to the Vice-Chair to the Vice Chairman. Effective September 22, 2006.

Section 213.33 National Endowment for the Humanities

NHGS60077 Senior Advisor to the Chairman to the Chairman. Effective September 13, 2006.

NHGS60075 Director of Communications to the Deputy Chairman. Effective September 20, 2006.

Office of Personnel Management.
Dan G. Blair,
Deputy Director.

[FR Doc. 06-9434 Filed 11-27-06; 8:45 am]

BILLING CODE 6325-39-M